DEPARTMENT OF ENERGY

Federal Energy Regulatory Commission

Notice of Filing

March 10, 2003.

Pennsylvania-New Jersey-Maryland Interconnection

[Docket Nos. OA97-261-005 and ER97-1082-007]

Atlantic City Electric Company, Baltimore Gas and Electric Company, Delmarva Power & Light Company, Jersey Central Power & Light Company, and Metropolitan Edison Company

[Docket No. ER97-3189-033]

Pennsylvania Electric Company, Pennsylvania Power & Light Company, Potomac Electric Power Company, Public Service Electric and Gas Company, Atlantic City Electric Company, Baltimore Gas and Electric Company, Delmarva Power & Light Company, Jersey Central Power & Light Company, and Metropolitan Edison Company

[Docket No. EC97-38-004]

Pennsylvania Electric Company, Pennsylvania Power & Light Company, Potomac Electric Power Company, Public Service Electric and Gas Company, and Pennsylvania-New Jersey-Maryland Interconnection Restructuring

[Docket No. ER97-3273-004]

Pennsylvania-New Jersey-Maryland Interconnection Restructuring

[Docket No. EL97-44-004]

PJM Interconnection, L.L.C.

[Docket No. OA97-678-004]

Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company

[Docket Nos. ER96-2516-006, EC96-28-006 and EL96-69-006]

PECO Energy Company

[Docket Nos. ER96-2668-006 and EC96-29-006]

Take notice that on February 4, 2003, the PJM Transmission Owners Group consisting of Baltimore Gas and Electric Company, Jersey Central Power & Light Company, Metropolitan Electric Company, Pennsylvania Electric Company, PPL Electric Utilities Corporation, Rockland Electric Company, Allegheny Power Service Company and Public Service Electric and Gas Company, tendered for filing with the Federal Energy Regulatory Commission (Commission) a compliance filing pursuant to the Commission's Order on Remand issued on December 19, 2002 in the above-captioned proceedings.

Any person desiring to intervene or to protest this filing should file with the Federal Energy Regulatory Commission, 888 First Street, NE., Washington, DC 20426, in accordance with rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: March 24, 2003.

Magalie R. Salas,
Secretary.

[FR Doc. 03-6007 Filed 3-14-03; 8:45 am]

BILLING CODE 6717-01-P